DEPARTMENT OF THE INTERIOR

Bureau of Land Management

[CA-160-1220-PG]

Notice of Public Meeting, Central California Resource Advisory Council

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Resource Advisory Council (RAC) for Central California will meet as indicated below.

DATES: The meeting will be held Friday and Saturday, October 11-12, 2002 at the Patio Room, Tri-County Fairgrounds, Sierra Street and Fair Drive, Bishop, California beginning at 8 a.m. both days. The public comment period will begin at 1 p.m. each day and last one hour. The meeting previously announced for September 13-14, 2002 is cancelled.

FOR FURTHER INFORMATION CONTACT: Larry Mercer, Public Affairs Officer, Bureau of Land Management, 3801 Pegasus Drive, Bakersfield, CA 93308, telephone 661-391-6010.

SUPPLEMENTARY INFORMATION: The 12 member Central California Resource Advisory Council advises the Secretary of the Interior, through the Bureau of Land Management, on a variety of public land issues associated with public land management in Central California. At this meeting, topics to be discussed include:

Committee assignments for members

National recreation fee guideline policy

Sage Grouse in the eastern Sierra

A field trip to the Bishop Field Office and interaction with the staff

All meetings are open to the public. The public may present written comments to the Council, and a time will be allocated for hearing public comments. Depending on the number of persons wishing to comment and the time available, the time for individual oral comments may be limited. Individuals who plan to attend and need special assistance such as sign language interpretation, tour transportation or other reasonable accommodations should contact the BLM as indicated above.

Dated: September 9, 2002.
Larry Mercer,
Public Affairs Officer.

[FR Doc. 02-23557 Filed 9-16-02; 8:45 am]

BILLING CODE 4310-40-M